DEPARTMENT OF THE INTERIOR

Bureau of Land Management

[LLAKA01000.L16100000.DO0000.LXSILBSW0000]

Notice of Intent To Prepare a Resource Management Plan for the Bering Sea-Western Interior Planning Area, Alaska and Associated Environmental Impact Statement

AGENCY: Bureau of Land Management, Interior.

ACTION: Notice of intent.

SUMMARY: In compliance with the National Environmental Policy Act of 1969, as amended (NEPA), and the Federal Land Policy and Management Act of 1976, as amended (FLPMA), the Bureau of Land Management (BLM) Anchorage Field Office, Anchorage, Alaska, intends to prepare a Resource Management Plan (RMP) with an associated Environmental Impact Statement (EIS) for the RMP for the Bering Sea-Western Interior (BSWI) Planning Area and by this notice announces the beginning of the scoping process to solicit public comments and identify issues. The RMP will replace the existing 1981 Southwest Planning Area Management Framework Plan and portions of the 1986 Central Yukon RMP Record of Decision.

DATES: This notice initiates the public scoping process for the RMP and associated EIS. Comments on issues may be submitted in writing until December 16, 2013.

The date(s) and location(s) of any scoping meetings will be announced at least 15 days in advance through local media, newspapers and the BLM Web site at: www.blm.gov/ak. All comments must be received prior to the close of the 150-day scoping period or 15 days after the last public meeting, whichever is later. Additional opportunities for public participation will be announced upon publication of the Draft RMP/EIS.

ADDRESSES: You may submit comments on issues and planning criteria related to the Bering Sea-Western Interior RMP/EIS by any of the following methods:

• In person at public scoping meetings in communities within the planning area. The BLM will announce the meeting dates, times and specific locations through news releases and on the BLM Web site at www.blm.gov/ak

• Web site: www.blm.gov/ak

• email: BSWI_RMP_COMMENT@blm.gov

• fax: 907-267-1267

• mail: BLM Anchorage Field Office, Attention—BSWI RMP, 4700 BLM Road, Anchorage, AK 99507

Documents pertinent to this planning effort may be examined at the BLM Anchorage Field Office, 4700 BLM Road, Anchorage, AK 99507, and on the BLM Alaska Web site: www.blm.gov/ak.

FOR FURTHER INFORMATION CONTACT: For further information and/or to have your name added to our mailing list, contact RMP Team Lead, Anchorage Field Office, telephone: 907-267-1246; address: BLM Anchorage Field Office, 4700 BLM Road, Anchorage, AK 99507; email: BSWI_RMP_COMMENT@blm.gov. Persons who use a telecommunications device for the deaf (TDD) may call the Federal Information Relay Service (FIRS) at 1-800-877-8339 to contact the above individual during normal business hours. FIRS is available 24 hours a day, 7 days a week, to leave a question with the above individual. You will receive a reply during normal business hours.

SUPPLEMENTARY INFORMATION: This document provides notice that the BLM Anchorage Field Office, Anchorage, Alaska, intends to prepare an RMP with an associated EIS for the Bering Sea-Western Interior Planning Area, announces the beginning of the public scoping process, and seeks public input on issues and planning criteria. The Planning Area is located in western Alaska and encompasses approximately 62 million acres of land, including 10.6 million acres managed by the BLM. The planning area includes all lands south of the Central Yukon watershed to the southern boundary of the Kuskokwim River watershed, and all lands west of Denali National Park and Preserve to the Bering Sea, including Saint Lawrence, Saint Matthew and Nunivak islands. The purpose of the public scoping process is to identify issues that will influence the scope of the environmental analysis, including alternatives, and guide the planning process. Preliminary issues for the planning area have been identified by the BLM; Federal, state, and local agencies; and other stakeholders. The issues include: Subsistence resource uses, special recreation permitting, mineral development, the Iditarod National Historic Trail and Unalakleet Wild River National Landscape Conservation System units, air, soil and water, vegetation, special status species, fish and wildlife, cultural resources, paleontology, traditional cultural properties, visual resources, wildland fire management, lands with wilderness characteristics, forestry, livestock grazing, recreation and visitor service, trails and travel management, lands and realty, social and economic conditions, renewable energy, hazardous materials and sites, and climate change.

The preliminary planning criteria include:

1. Opportunities for public comment and participation in the formulation of the plan will be encouraged throughout the RMP/EIS process;

2. Valid existing rights will be recognized and protected;

3. The BLM will consider subsistence uses and minimize adverse impacts in accordance with Section 810 of the ANILCA;

4. In accordance with the provisions of 42 U.S.C. 4332(2)(F), salmon will be accorded recognition as an international subsistence resource pursuant to the provisions of the Pacific Salmon Treaty of 1985 and those of the Yukon River Salmon Act of 2000, Public Law 106-450, 16 U.S.C. 5727 et seq., November 7, 2000;

5. The BLM will work cooperatively with State and Federal agencies, federally recognized tribes, and municipal governments. Agencies (including federally recognized tribal governments) with jurisdiction by law or special expertise will be consulted to determine if cooperating agency status is appropriate and desired;

6. Department of the Interior guidance, Alaska Department of Fish and Game objectives, and Federal Subsistence Board requirements and mandates will be considered in decisions related to wildlife management;

7. The RMP will be consistent with the Bureau's H-1601-1 Land Use Planning Handbook, Appendix C; Program-Specific and Resource-Specific Decision Guidance and supplemental program guidance manuals and handbooks;

8. The plan will be consistent with the standards and guidance set forth in FLPMA, NEPA, Council on Environmental Quality (CEQ) regulations, the National Historic Preservation Act (NHPA), the Wild and Scenic Rivers Act, the National Trails System Act, the Migratory Bird Treaty Act, ANILCA, the Surface Mine Reclamation and Enforcement Act of 1977, and other pertinent Federal laws, regulations, and policies;

9. The plan will be consistent with the BLM-Alaska Land Health Standards;

10. Designations for Off-Highway Vehicles for all public lands within the Planning Area will be completed according to the regulations found in 43 CFR Subpart 8342;

11. Multiple-Use classifications will be consistent with the provisions of 43 CFR Parts 2400, 2410, 2420, 2430, 2440, 2450, 2460 and 2470;

12. Current and potentially new special management areas, such as Areas of Critical Environmental Concern (ACECs), will be considered using the criteria found in 43 CFR 1610.7-2;

13. Lands addressed in the RMP will be BLM-administered surface lands and subsurface estate. No decisions will be made for lands not managed by the BLM;

14. Review and classification of waterways as eligible for inclusion in the National Wild and Scenic River System will be consistent with the Bureau's Manual 6400—Wild and Scenic Rivers—Policy and Program Direction for Identification, Evaluation, Planning, and Management;

15. The BLM will incorporate Environmental Justice considerations in the planning alternatives to respond to Environmental Justice issues facing minority populations, low income communities, and tribes living near public lands and using public land resources;

16. Social scientific data and methods will be integrated into the entire planning process, from preparing the pre-plan to implementation and monitoring;

17. Impacts from the alternatives considered in the RMP will be analyzed in an EIS developed in accordance with regulations at 43 CFR Subpart 1610 and 40 CFR Part 1502;

18. Decisions in the plan will be compatible with existing plans and policies of adjacent local, state, and Federal agencies to the maximum extent possible while remaining consistent with the purposes, policies, and programs of Federal law, and regulations applicable to public lands;

19. The plan will assess all BLM-managed lands in the planning area for wilderness characteristics using criteria established by BLM Manual 6310. The RMP will examine options for managing lands with wilderness characteristics and determine the most appropriate land use allocations for these lands. Considering wilderness characteristics in the land use planning process may result in several outcomes, including, but not limited to: (1) Emphasizing other multiple uses as a priority over protecting wilderness characteristics; (2) emphasizing other multiple uses while applying management restrictions (conditions of use, mitigation measures) to reduce impacts to wilderness characteristics; and, (3) the protection of wilderness characteristics as a priority over other uses.

You may submit comments on issues and planning criteria in writing to the BLM at any public scoping meeting, or you may submit them to the BLM using one of the methods listed in the ADDRESSES section above. All comments must be received prior to the close of the 150-day scoping period or 15 days after the last public meeting, whichever is later. Before including your address, phone number, email address, or other personal identifying information in your comment, you should be aware that your entire comment—including your personal identifying information—may be made publicly available at any time. While you can ask us in your comment to withhold your personal identifying information from public review, we cannot guarantee that we will be able to do so.

The BLM will evaluate identified issues and will place them into one of three categories:

1. Issues to be resolved in the plan;

2. Issues to be resolved through policy or administrative action; or

3. Issues beyond the scope of this plan.

The BLM will provide an explanation in the Draft RMP/Draft EIS as to why an issue was placed in category two or three. The public is also encouraged to help identify any management questions and concerns that should be addressed in the plan. The BLM will work collaboratively with interested parties to identify the management decisions that are best suited to local, regional, and national needs and concerns.

The BLM will use NEPA public participation requirements to assist the agency in satisfying the public involvement requirements under Section 106 of the NHPA (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Pursuant to the Alaska Native Claims Settlement Act (ANCSA) of 1971, as well as Executive Order 13175, the BLM will also consult with Alaska Native corporations. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis for the RMP as a cooperating agency.

The BLM will use an interdisciplinary approach to develop the plan in order to consider the variety of resource issues and concerns identified. Specialists with expertise in the following disciplines will be involved in the planning process: Lands and realty, wildlife, fisheries, subsistence, vegetation, outdoor recreation, fire management, forestry, minerals and geology, air quality, paleontology, hydrology, soils, socioeconomics and visual resource management.

Authority: 40 CFR 1501.7, 43 CFR 1610.2.

Bud C. Cribley,
State Director.

[FR Doc. 2013-17224 Filed 7-17-13; 8:45 am]

BILLING CODE 4310-JA-P